DEPARTMENT OF THE INTERIOR

Fish and Wildlife Service

50 CFR Part 17

RIN 1018-AF56

Endangered and Threatened Wildlife and Plants; Notice of Reopening of Comment Period on the Proposed Rule To List the Alabama Sturgeon as Endangered

AGENCY: Fish and Wildlife Service, Interior.

ACTION: Proposed rule; notice of reopening of comment period.

SUMMARY: We, the Fish and Wildlife Service (Service), give notice that the public comment period on the proposed rule to list the Alabama sturgeon (Scaphirhynchus suttkusi) as endangered is reopened. We are reopening the comment period in order to obtain comments on a Conservation Agreement and Strategy for the Alabama sturgeon (both documents will be referred to hereafter as the 2000 Strategy), which were signed by the Alabama Department of Conservation and Natural Resources (ADCNR), the Service, the U.S. Army Corps of Engineers (Corps), and the Alabama-Tombigbee Rivers Coalition on February 9, 2000, and on their relevance and significance to the proposed listing of the Alabama sturgeon as endangered. The goal of the 2000 Strategy is “. . . to eliminate or significantly reduce current threats to the Alabama sturgeon and its habitat. . . . ” Reopening the comment period will allow all interested parties to submit comments on the 2000 Strategy and its relevance and significance to the proposed listing of the Alabama sturgeon as endangered. The 2000 Strategy is available for review (See the SUPPLEMENTARY INFORMATION section under Comment Procedures for how to obtain these documents).

DATES: We will accept comments until March 17, 2000.

ADDRESSES: If you wish to comment, you may submit your comments by any one of several methods. You may mail or hand-deliver comments to Mitch King, at U.S. Fish and Wildlife Service, 1875 Century Boulevard, Suite 415, Atlanta, Georgia 30345. You may also comment via the Internet to mitch_king@fws.gov. See the SUPPLEMENTARY INFORMATION section for Comment Procedures.

FOR FURTHER INFORMATION CONTACT: Mr. Mitch King, (see“ADDRESSES” section), 404-679-7180 (phone), 404-679-4180 (facsimile).

SUPPLEMENTARY INFORMATION:

Background

On March 26, 1999, we published a rule proposing endangered status for the Alabama sturgeon in the Federal Register (64 FR 14676). On January 11, 2000, we published a notice in the Federal Register (65 FR 1583), reopening the comment period through February 10, 2000. On February 7, 2000, we published a second notice in the Federal Register (65 FR 5848), reopening the comment period through March 8, 2000. With this notice, we are reopening the comment period through March 17, 2000, to obtain comments on the substance of the 2000 Strategy and on the relevance and significance of the 2000 Strategy for the Alabama sturgeon on the listing decision.

In 1997, a voluntary conservation effort was implemented and coordinated by ADCNR in order to address the primary threats to the Alabama sturgeon, which was identified as its small numbers and its apparent inability to offset mortality rates with reproduction and recruitment rates. The primary focus of this effort was to remedy the small population size through a captive breeding and restocking program. Secondarily, the effort provided habitat restoration measures and research to determine life history information essential to effective conservation and management of the species. A variety of public and private entities, including the Service, the Corps, the Rivers Coalition, the Geologic Survey of Alabama, and the Mobile River Basin Coalition participated in the implementation of this effort.

During the three years of this effort, the participants had less success capturing Alabama sturgeon than was initially expected. The capture effort produced five Alabama sturgeon, two of which currently survive at the Marion State Fish Hatchery. The three year effort provided needed experience in the capture of Alabama sturgeon, especially with respect to the best method for collecting, the areas on the river most likely to yield Alabama sturgeon, and the best time of year to collect. The capture effort also resulted in the establishment of protocols for handling, transporting, and propagating Alabama sturgeon. In addition, collection efforts and work on other sturgeon species are producing information that could be valuable regarding the Alabama sturgeon. For example, recent collection efforts on the pallid sturgeon indicate that manipulating flows out of water control structures can increase collection success for that species.

On February 9, 2000, the Service, ADCNR, the Corps, and the Rivers Coalition entered into the 2000 Strategy that expands upon the initial efforts undertaken in 1997. The 2000 Strategy includes a substantial change to the capture program. During the three years that the 1997 effort was underway, a total of 250 field days were spent in the capture effort. Under the 2000 Strategy, a minimum total of 548 field days will be expended each year for the first three years.

The parties to the 2000 Strategy signed the documents on February 9, 2000, because of a desire to have implementation begin immediately while we are in a period of the year that has the best chance of capturing sturgeon. The 2000 Strategy is subject to amendment by consent of the parties.

The reason the comment period has been reopened through March 17, 2000, is to obtain public comment on the 2000 Strategy's relevance and significance to the upcoming listing decision. How the 2000 Strategy is relevant or significant (i.e., its effect on the underlying analysis of the listing factors in the proposed rule) should be a primary focus of comment during the public comment period. Any comments received concerning the 2000 Strategy will be fully considered by us in our final determination.

Public Comments Solicited

We are seeking comments on the relevance and signficance of the 2000 Strategy to the listing decision. Specifically, we are seeking input on whether:

(1) The 2000 Strategy addresses the factors identified in the proposed listing rule to a degree that there is no longer a basis for listing the Alabama sturgeon;

(2) The 2000 Strategy addresses the factors identified in the proposed listing rule to a degree that the listing determination would more appropriately be threatened instead of endangered. The Conservation Strategy could also be linked to a 4(d) rule;or,

(3) The 2000 Strategy fails to address the factors sufficiently to have an effect on the listing determination, but still form the basis for a Section 7(a)(1) program, a Section 7(a)(2) consultation, a Section 10 permit for non-federal entities, and/or the core of a species recovery plan.

We request comments or suggestions from the public, other concerned governmental agencies, the scientific community, industry, or any other interested party concerning the 2000 Strategy and its relevance and significance to the proposed listing of the Alabama sturgeon as endangered.

Comment Procedures

Please submit Internet comments as an ASCII file, avoiding the use of special characters and any form of encryption. Please also include “Attention: [Alabama sturgeon]” and your name and return address in your Internet message. If you do not receive a confirmation from the system that we have received your Internet message, contact us directly at the address given in the ADDRESSES section or by telephone at 404-679-7180. Finally, you may also hand-deliver comments to the address given in the ADDRESSES Section. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials or organizations or businesses, available for public inspection in their entirety. Comments and materials received will be available for public inspection, by appointment, during normal business hours at the above address. To obtain copies of the 2000 Strategy, you can download or print one from http://endangered.fws.gov/listing/index.html (under Announcements) or contact Kelly Bibb at 404/679-7132 (phone) or 404/679-7081 (facsimile) to receive a faxed or mailed copy. All questions related to this notice should be directed to Mr. Mitch King at the address or phone number listed in the ADDRESSES section of this notice.

Author

The primary author of this notice is Mitch King (see ADDRESSES section).

Authority: The authority for this notice is the Endangered Species Act of 1973 (16 U.S.C. 1531 et seq.).

Dated: February 11, 2000.
Sam D. Hamilton,
Regional Director, Fish and Wildlife Service.

[FR Doc. 00-3782 Filed 2-14-00; 12:13 pm]

BILLING CODE 4310-15-P